DEPARTMENT OF TRANSPORTATION

Federal Aviation Administration

Public Notice for Waiver of Aeronautical Land-Use Assurance; Central Illinois Regional Airport, Bloomington, IL

AGENCY: Federal Aviation Administration, DOT.

ACTION: Notice of intent of waiver with respect to land.

SUMMARY: The Federal Aviation Administration (FAA) is considering a proposal to change a portion of airport land from aeronautical use to non-aeronautical use and to authorize the sale of the airport property. The proposal consists of Parcel C-2, a 4.1 acre portion of Parcel C, and Parcel C-3, a 4.9 acre portion of Parcel C-1. Presently the land is vacant and used as open land for control of FAR Part 77 surfaces and compatible land use and is not needed for aeronautical use, as shown on the Airport Layout Plan. There are no impacts to the airport by allowing the airport to dispose of the property. Parcel C (61.9 acres) was acquired in 1966 under FAAP grant 9-11-011-C603. Parcel C-1 (34.72 acres) was acquired in 1966 without federal participation. It is the intent of the Bloomington-Normal Airport Authority (BNAA) to sell Parcel C-2 and Parcel C-3 in fee. This notice announces that the FAA intends to authorize the disposal of the subject airport property at Central Illinois Regional Airport, Bloomington, IL. Approval does not constitute a commitment by the FAA to financially assist in disposal of the subject airport property nor a determination that all measures covered by the program are eligible for grant-in-aid funding from the FAA. The disposition of proceeds from the disposal of the airport property will be in accordance with FAA's Policy and Procedures Concerning the Use of Airport Revenue, published in the Federal Register on February 16, 1999.

In accordance with section 47107(h) of Title 49, United States Code, this notice is required to be published in the Federal Register 30 days before modifying the land-use assurance that requires the property to be used for an aeronautical purpose. The proceeds from the sale of the land will be maintained in an interest bearing account and used for reimbursement of Airport Improvement Program eligible development.

DATES: Comments must be received on or before March 29, 2002.

FOR FURTHER INFORMATION CONTACT: Denis Rewerts, Program Manager, 2300 East Devon Avenue, Des Plaines, IL, 60018. Telephone Number 847-294-7195/FAX Number 847-294-7046. Documents reflecting this FAA action may be reviewed at this same location by appointment or at the Bloomington-Normal Airport Authority, Central Illinois Regional Airport, 3201 CIRA Drive, Suite 200, Bloomington, IL 61704.

SUPPLEMENTARY INFORMATION: The following legal description of the proposed land sale is:

Parcel C-2

A part of the Northwest Quarter of Section 6, Township 23 North, Range 3 East of the Third Principal Meridian, McLean County, Illinois, more particularly described as follows: Commencing at the Northwest Corner of said section 6, thence south 107 feet, more or less along the West Line of said Northwest Quarter to the South Right-of-Way of Illinois Route 9; thence east 18 feet, more or less, along said Right-of-Way Line to the Point of Beginning. From the Point of Beginning, thence south 97 feet, more or less, along a line which is parallel with said West Line to a point of curve; thence southeast 131.5 feet, more or less along an arc of a curve concave to the northeast with a radius of 182 feet and central angle of 41°-25′, more or less, to a point of tangency; thence southeast 247 feet, more of less, to a point of curve; thence southeast and east 143 feet, more or less along a curve concave to the northeast with a radius of 182 feet and a central angle of 45°-00′ to a point of tangency; thence east 125 feet, more or less; thence north 445 feet, more or less, along a line which forms an angle of 89°-20′ with the last described course to said South Right-of-Way Line; thence westerly along said South Right-of-Way Line to the Point of Beginning, containing approximately 4.1 acres.

Parcel C-3

A part of the Northwest Quarter of Section 6, Township 23 North, Range 3 East of the Third Principal Meridian, McLean County, Illinois, more particularly described as follows: Commencing at the Northwest Corner of said section 6; thence east 798 feet, more or less, along the North Line of said Northwest Quarter; thence south 123 feet, more or less, perpendicular to said North Line to a point on the South Right-of-Way Line of Illinois Route 9, said point being the Point of Beginning. From said Point of Beginning, thence 188 feet, more or less, along a line which forms an angle to the right of 181°-06′ with the last described course; thence southwest 283 feet, more or less, along a line which forms an angle to the right 203°-14′, more or less; thence east 551 feet, more or less, along a line which forms an angle to the right of 67°-26′, more or less, thence north 462 feet, more or less, to a point on said South Right-of-Way Line lying 430 feet, more or less, east of the Point of Beginning; thence west along said South Right-of-Way Line to the Point of Beginning, containing 4.9 acres, more or less.

This legal description does not represent a boundary survey and is based on a suggested land description provided by the BNAA.

Issued in Des Plaines, Illinois on January 30, 2002.
Philip M. Smithmeyer,
Manager, Chicago Airports District Office, FAA, Great Lakes Region.

[FR Doc. 02-4629 Filed 2-26-02; 8:45 am]

BILLING CODE 4910-13-M